DEPARTMENT OF HEALTH AND HUMAN SERVICES

National Institutes of Health

Center for Scientific Review; Amended Notice of Meeting

Notice is hereby given of a change in the meeting of the Center for Scientific Review Special Emphasis Panel, February 10, 2010, 1 p.m. to February 10, 2010, 4 p.m., National Institutes of Health, 6701 Rockledge Drive, Bethesda, MD 20892 which was published in the Federal Register on January 11, 2010, 75 FR 1397-1399.

The meeting title has been changed to “PAR08-224: System Dynamics Methodologies”. The meeting is closed to the public.

Dated: January 12, 2010.
Jennifer Spaeth,
Director, Office of Federal Advisory Committee Policy.

[FR Doc. 2010-985 Filed 1-19-10; 8:45 am]

BILLING CODE 4140-01-P